SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB), Office of Management and Budget, Attn: Desk Officer for SSA, Fax: 202-395-6974, E-mail address: OIRA_Submission@omb.eop.gov;

(SSA), Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than March 21, 2011. Individuals can obtain copies of the collection instruments by calling the SSA Reports Clearance Officer at 410-965-8783 or by writing to the above e-mail address.

1. Petition to Obtain Approval of a Fee for Representing a Claimant before the Social Security Administration—20 CFR 404.1720 and 404.1725; 20 CFR 416.1520 and 416.1525-0960-0104. A Social Security claimant's representative, whether an attorney or a non-attorney, uses Form SSA-1560-U4 to petition SSA for authorization to charge and collect a fee. A claimant may also use the form to agree or disagree with the requested fee amount or other information the representative provides on the form. The SSA official responsible for setting the fee uses the information from the form to determine a reasonable fee amount representatives may charge for their services. Primary respondents are attorneys and non-attorneys who represent Social Security claimants.

Type of Request: Revision of an OMB-approved information collection.

Number of Respondents: 48,110.

Frequency of Response: 1.

Average Burden per Response: 30 minutes.

Estimated Annual Burden: 24,055 hours.

2. Annual Earnings Test Direct Mail Follow-Up Program Notices—20 CFR 404.452-404.455—0960-0369. SSA developed the Annual Earnings Test Direct Mail Follow-up Program to improve beneficiary reporting on work and earnings during the year, and earnings information at the end of the year. SSA may reduce benefits payable under the Social Security Act when an individual has wages or self-employment income exceeding the annual exempt amount. SSA identifies beneficiaries likely to receive more than the annual exempt amount, and requests more frequent estimates of earnings from them. When applicable, SSA also requests a future year estimate to reduce overpayments due to earnings. SSA sends letters (SSA-L9778, L9779, L9781, L9784, L9785, and L9790) to beneficiaries requesting earnings information the month prior to reaching full retirement age. We send each beneficiary a tailored letter, which includes relevant earnings data from SSA records. The Annual Earnings Test Direct Mail Follow-up Program helps to ensure Social Security payments are correct. The respondents are working Social Security beneficiaries.

Type of Request: Revision of an OMB-approved information collection.

Collection instrument | Number of respondents | Frequency of response | Estimated burden per response (minutes) | Total annual burden (hours)
Form SSA-L9778 | 42,630 | 1 | 10 | 7,105
Form SSA-L9779 | 158,865 | 1 | 10 | 26,478
Form SSA-L9781 | 472,437 | 1 | 10 | 78,740
Form SSA-L9784 | 1,270 | 1 | 10 | 212
Form SSA-L9785 | 15,870 | 1 | 10 | 2,645
Form SSA-L9790 | 45,000 | 1 | 10 | 7,500
Totals | 736,072 |  |  | 122,680

II. SSA has submitted the information collections listed below to OMB for clearance. Your comments on the information collections would be most useful if OMB and SSA receive them within 30 days from the date of this publication. To be sure we consider your comments, we must receive them no later than February 22, 2011. You can obtain a copy of the OMB clearance packages by calling the SSA Reports Clearance Officer at 410-965-8783 or by writing to the above e-mail address.

1. Request for Review of Hearing Decision/Order—20 CFR 404.967-404.981, 416.1467-416.1481—0960-0277. Claimants have a statutory right under the Social Security Act and current regulations to request review of an administrative law judge's (ALJ) hearing decision or dismissal of a hearing request on Title II and Title XVI claims. Claimants may request Appeals Council review by filing a written request using Form HA-520. SSA uses the information to establish the claimant filed her or his request for review within the prescribed time and to ensure the claimant completed the requisite steps permitting the Appeals Council review. The Appeals Council uses the information to: (1) Document the claimant's reason(s) for disagreeing with the ALJ's decision or dismissal; (2) determine whether the claimant has additional evidence to submit; and (3) determine whether the claimant has a representative or wants to appoint one. The respondents are claimants requesting review of an ALJ's decision or dismissal of hearing.

Type of Request: Revision of an OMB-approved information collection.

Number of Respondents: 145,000.

Frequency of Response: 1.

Average Burden per Response: 10 minutes.

Estimated Annual Burden: 24,167 hours.

2. Development for Participation in a Vocational Rehabilitation or Similar Program—20 CFR 404.316(c), 404.337(c), 404.352(d), 404.1586(g), 404.1596, 404.1597(a), 404.327, 404.328, 416.1338(c)(d), 416.1320(d), 416.1331(a)-(b), and 416.1338—0960-0282. State Disability Determination Services (DDS) must determine if Social Security disability payment recipients, whose disability ceased and who participate in vocational rehabilitation programs, may continue to receive disability payments. To do this, DDSs need information about the recipients, the types of program participation, and the services they receive under the rehabilitation program. SSA uses Form SSA-4290 to collect this information. The respondents are State employment networks, vocational rehabilitation agencies, or other providers of educational or job training services.

Type of Request: Revision of an OMB-approved information collection.

Number of Respondents: 3,000.

Frequency of Response: 1.

Average Burden per Response: 15 minutes.

Estimated Annual Burden: 750 hours.

3. Acknowledgement of Receipt (Notice of Hearing)—20 CFR 404.938 & 416.1438—0960-0671. SSA uses Forms HA-504 and HA-504-OP1 to inform claimants of a scheduled hearing. Claimants complete the form to acknowledge they will attend the hearing or to ask the ALJ to reschedule the hearing. The ALJ uses the information to prepare for the scheduled hearing or to reschedule the hearing to a different date or location. The only difference between the two forms is the exclusion of the video teleconferencing option on the HA-504-OP1. We exclude video teleconferencing when it is not feasible, based on certain circumstances, for the ALJ's use. The respondents are applicants for Social Security benefits who request a hearing to appeal an unfavorable entitlement or continued eligibility determination.

Type of Request: Revision of an OMB-approved information collection.

Version of the HA-504 | Number of respondents | Frequency of response | Average burden per response (minutes) | Total annual burden (hours)
HA-504 (with teleconferencing) | 70,000 | 1 | 30 | 35,000
HA-504-OP1 | 630,000 | 1 | 30 | 315,000
Total | 700,000 |  |  | 350,000

Dated: January 13, 2011.
Elizabeth A. Davidson,
Center Director, Center for Reports Clearance Office of Documents Management, OPLM, BFM.

[FR Doc. 2011-1028 Filed 1-19-11; 8:45 am]

BILLING CODE 4191-02-P